DEPARTMENT OF ENERGY

Federal Energy Regulatory Commission

[Project No. 14424-000]

Tlingit-Haida Regional Electric Authority; Notice of Preliminary Permit Application Accepted for Filing and Soliciting Comments and Motions To Intervene

On June 12, 2012, Tlingit-Haida Regional Electric Authority (THREA) filed an application, pursuant to section 4(f) of the Federal Power Act, proposing to study the feasibility of the Walker Lake Hydroelectric Project, to be located on Walker Lake, near Haines, Haines Borough, Alaska. The sole purpose of a preliminary permit, if issued, is to grant the permit holder priority to file a license application during the permit term. A preliminary permit does not authorize the permit holder to perform any land-disturbing activities or otherwise enter upon lands or waters owned by others without the owners' express permission.

The proposed project would consist of: (1) Two rock-filled dams approximately 15-foot-wide, and 250- and 325-foot-long, respectively, creating a usable capacity of Walker Lake of 4,300 acre-feet at a normal maximum operating elevation of 1,195 feet above mean sea level (msl); (2) a concrete spillway and diversion channel for controlled releases to Walker Creek; (3) a concrete intake at elevation 1,170 feet msl diverting flow into the penstock; (4) a 24-inch-diameter, 11,000-foot-long penstock, of which approximately 10,000 feet would be buried and 1,000 feet would be above ground; (5) a powerhouse containing one generating unit with an installed capacity of one megawatt and 780 feet of net head; (6) a 50-foot-long tailrace connecting the powerhouse with the Little Salmon River; (7) a 4-mile-long, 12.5-kilovolt transmission line extending from the project to an interconnection location near the Klehini River Bridge; and (8) appurtenant facilities. The estimated annual generation of the Walker Lake Project would be 3,615 megawatt-hours.

Applicant Contact: Mr. Richard George, P.O. Box 40, Angoon, AK, 99820, phone (907) 788-3771.

FERC Contact: Matt Buhyoff, (202) 502-6824.

Competing Application: This application competes with Project No. 14346-000 filed January 11, 2012. Competing applications or a notice of intent to file a competing application had to be filed on or before May 14, 2012. On May 11, 2012, THREA filed a notice of intent to file a competing application; therefore, its competing application had to be filed on or before June 13, 2012.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project can be viewed or printed on the “eLibrary” link of Commission's Web site at http://www.ferc.gov/docs-filing/elibrary.asp. Enter the docket number (P-14424) in the docket number field to access the document. For assistance, call toll-free 1-866-208-3372.

Dated: December 19, 2012.
Kimberly D. Bose,
Secretary.

[FR Doc. 2012-30994 Filed 12-21-12; 4:15 pm]

BILLING CODE 6717-01-P